DEPARTMENT OF THE INTERIOR

Fish and Wildlife Service

Endangered and Threatened Wildlife and Plants; 5-Year Review of 13 Southeastern Species

AGENCY: Fish and Wildlife Service, Interior.

ACTION: Notice.

SUMMARY: The U.S. Fish and Wildlife Service (Service) announces a 5-year review of the Bachman's warbler (Vermivora bachmanii), Conasauga logperch (Percina jenkinsi), Cumberland bean (Villosa trabalis), speckled pocketbook (Lampsilis streckeri), little amphianthus (Amphianthus pusillus), hairy rattleweed (Baptisia arachnifera), Geocarpon minimum (no common name), black-spored quillwort (Isoetes melanospora), mat-forming quillwort (Isoetes tegetiformans), white-haired goldenrod (Solidago albopilosa), Short's goldenrod (Solidago shortii), persistent trillium (Trillium persistens), and relict trillium (Trillium reliquum) under section 4(c)(2) of the Endangered Species Act of 1973, as amended (Act). The purpose of reviews conducted under this section of the Act is to ensure that the classification of species as threatened or endangered on the List of Endangered and Threatened Wildlife and Plants (50 CFR 17.11 and 17.12) is accurate. The 5-year review is an assessment of the best scientific and commercial data available at the time of the review.

DATES: To allow us adequate time to conduct this review, information submitted for our consideration must be received on or before September 26, 2005. However, we will continue to accept new information about any listed species at any time.

ADDRESSES: Information submitted on the Bachman's warbler should be sent to the Field Supervisor, Charleston Field Office, U.S. Fish and Wildlife Service, 176 Croghan Spur Road, Suite 200, Charleston, South Carolina 29407. Information about the speckled pocketbook and Geocarpon minimum (a plant) should be sent to the Field Supervisor, Arkansas Field Office, 1500 Museum Road, Suite 105, Conway, Arkansas 72032. Information submitted on the Cumberland bean, white-haired goldenrod, and Short's goldenrod should be sent to the Field Supervisor, Kentucky Field Office, 3761 Georgetown Road, Frankfort, KY 40601. Information about the hairy rattleweed should be sent to the Assistant Field Supervisor, Coastal Georgia Field Office, 4270 Norwich Street, Brunswick, GA 31520. Information on the remaining 6 species should be sent to the Field Supervisor, Athens Field Office, West Park Center, 105 West Park Drive, Suite D, Athens, Georgia 30606. Information received in response to this notice of review will be available for public inspection by appointment, during normal business hours, at the same addresses.

FOR FURTHER INFORMATION CONTACT: Ed Eudaly at the Charleston, South Carolina, address above for the Bachman's warbler, (telephone, 843/727-4707, ext. 220); Chris Davidson at the Conway, Arkansas, address above for the speckled pocketbook and Geocarpon minimum, (501/513-4481); Mike Floyd at the Frankfort, Kentucky, address above for the Cumberland bean, white-haired goldenrod, and Short's goldenrod, (502/695-0468); Keren Giovengo at the Brunswick, Georgia, address above for the hairy rattleweed (912/265-9336, ext. 31); and James Rickard at the above Athens, Georgia, address for the remaining 6 species (706/613-9493, ext. 23).

SUPPLEMENTARY INFORMATION: Under the Act (16 U.S.C. 1533 et seq.), the Service maintains a list of endangered and threatened wildlife and plant species at 50 CFR 17.11 (for animals) and 17.12 (for plants) (collectively referred to as the List). Section 4(c)(2)(A) of the Act requires that we conduct a review of listed species at least once every 5 years. Then, on the basis of such reviews, under section 4(c)(2)(B), we determine whether or not any species should be removed from the List (delisted), or reclassified from endangered to threatened or from threatened to endangered. Delisting a species must be supported by the best scientific and commercial data available and only considered if such data substantiate that the species is neither endangered nor threatened for one or more of the following reasons: (1) The species is considered extinct; (2) the species is considered to be recovered; and/or (3) the original data available when the species was listed, or the interpretation of such data, were in error. Any change in Federal classification would require a separate rulemaking process. The regulations at 50 CFR 424.21 require that we publish a notice in the Federal Register announcing those species currently under active review. This notice announces our active review of the following species that are currently federally listed as threatened: Little amphianthus, Geocarpon minimum, and white-haired goldenrod; and the following species currently federally listed as endangered: Bachman's warbler, Conasauga logperch, Cumberland bean, speckled pocketbook, hairy rattleweed, black-spored quillwort, mat-forming quillwort, Short's goldenrod, persistent trillium, and relict trillium.

The List is found in 50 CFR 17.11 (wildlife) and 17.12 (plants) and is also available on our Internet site at http://endangered.fws.gov/wildlife.html#Species. Amendments to the List through final rules are published in the Federal Register.

What Information Is Considered in the Review?

A 5-year review considers the best scientific and commercial data that has become available since the current listing determination or most recent status review of each species, such as:

A. Species biology, including but not limited to population trends, distribution, abundance, demographics, and genetics;

B. Habitat conditions, including but not limited to amount, distribution, and suitability;

C. Conservation measures that have been implemented to benefit the species;

D. Threat status and trends (see five factors under heading “How do we determine whether a species is endangered or threatened?”); and

E. Other new information, data, or corrections, including but not limited to taxonomic or nomenclatural changes, identification of erroneous information contained in the List, and improved analytical methods.

Definitions Related to This Notice

The following definitions are provided to assist those persons who contemplate submitting information regarding the species being reviewed:

A. Species includes any species or subspecies of fish, wildlife, or plant, and any distinct population segment of any species of vertebrate which interbreeds when mature.

B. Endangered means any species that is in danger of extinction throughout all or a significant portion of its range.

C. Threatened means any species that is likely to become an endangered species within the foreseeable future throughout all or a significant portion of its range.

How Do We Determine Whether a Species Is Endangered or Threatened?

Section 4(a)(1) of the Act establishes that we determine whether a species is endangered or threatened based on one or more of the following five factors:

A. The present or threatened destruction, modification, or curtailment of its habitat or range;

B. Overutilization for commercial, recreational, scientific, or educational purposes;

C. Disease or predation;

D. The inadequacy of existing regulatory mechanisms; or

E. Other natural or manmade factors affecting its continued existence.

Section 4(a)(1) of the Act requires that our determination be made on the basis of the best scientific and commercial data available.

What Could Happen as a Result of This Review?

If we find that there is new information concerning any of these 13 species indicating that a change in classification may be warranted, we may propose a new rule that could do one of the following: (a) Reclassify the species from endangered to threatened (downlist); (b) reclassify the species from threatened to endangered (uplist); or (c) delist the species. If we determine that a change in classification is not warranted, then these species will remain on the List under their current status.

Public Solicitation of New Information

We request any new information concerning the status of these 13 species. See “What information is considered in the review?” heading for specific criteria. Information submitted should be supported by documentation such as maps, bibliographic references, methods used to gather and analyze the data, and/or copies of any pertinent publications, reports, or letters by knowledgeable sources. Our practice is to make comments, including names and home addresses of respondents, available for public review. Individual respondents may request that we withhold their home addresses from the supporting record, which we will honor to the extent allowable by law. There also may be circumstances in which we may withhold from the supporting record a respondent's identity, as allowable by law. If you wish us to withhold your name and/or address, you must state this prominently at the beginning of your comment. We will not consider anonymous comments, however. We will make all submissions from organizations or businesses, and from individuals identifying themselves as representatives or officials of organizations or businesses, available for public inspection in their entirety.

Authority: This document is published under the authority of the Endangered Species Act (16 U.S.C. 1531 et seq.).

Dated: July 5, 2005.
Cynthia K. Dohner,
Acting Regional Director.

[FR Doc. 05-14713 Filed 7-25-05; 8:45 am]

BILLING CODE 4310-55-P